DEPARTMENT OF HEALTH AND HUMAN SERVICES

National Institutes of Health

Center for Scientific Review; Amended Notice of Meeting

Notice is hereby given of a change in the meeting of the Center for Scientific Review Special Emphasis Panel, June 28, 2007, 1 p.m. to June 28, 2007, 3 p.m., National Institutes of Health, 6701 Rockledge Drive, Bethesda, MD 20892 which was published in the Federal Register on June 11, 2007, 72 FR 32129-32131.

The meeting will be held July 23, 2007, from 1 p.m. to 4 p.m. The meeting location remains the same. The meeting is closed to the public.

Dated: June 15, 2007.
Jennifer Spaeth,
Director, Office of Federal Advisory Committee Policy.

[FR Doc. 07-3076 Filed 6-22-07; 8:45 am]

BILLING CODE 4140-01-M